DEPARTMENT OF HEALTH AND HUMAN SERVICES

Centers for Disease Control and Prevention

[30Day-11-11AI]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Measuring Preferences for Quality of Life for Child Maltreatment—New—National Center for Injury Prevention and Control (NCIPC), Division of Violence Prevention (DVP), Centers for Disease Control and Prevention (CDC).

Background and Brief Description

Child maltreatment (CM) is a major public health problem in the United States, causing substantial morbidity and mortality (DHHS, 2010), and the prevalence for any of the three major types of CM (physical abuse, sexual abuse, and neglect) is estimated at approximately 28% (Hussey et al., 2006). Additionally, the annual incidence of any type of CM among children and adolescents 0-17 has been estimated at nearly 14%, while physical and sexual abuse are estimated at 3.7% and 0.6%, respectively (Finkelhor et al., 2005). CM has been shown to have lifelong adverse physical and mental health consequences for victims (Felitti et al., 1998), including behavioral problems (Felitti et al. 1998; Repetti et al. 2002), mental health conditions such as post-traumatic stress disorder (PTSD) (Browne and Finkelhor, 1986; Holmes and Sammel, 2005; Moeller and Bachman, 1993), increased trouble with interpersonal relationships (Fang and Corso, 2007), increased risk of chronic diseases (Browne and Finkelhor, 1986), and lasting impacts or disability from physical injury (Dominguez et al. 2001). The consequences of CM have both a direct impact, through reduced health, as well as an indirect impact, through reduced health-related quality of life (HRQoL, or simply QoL), the state of “utility” or satisfaction that a person experiences as a result of their health (Drummond et al. 1997).

The CDC requests approval of a survey-based study to measure the Health-Related Quality-of-Life (HRQoL) impacts resulting from child maltreatment (CM) using a quantitative, preference-based approach. The U.S. Department of Health and Human Services, among many others, has identified child maltreatment as a serious U.S. public health problem with substantial long-term physical and psychological consequences. Despite considerable research on the consequences of CM in adults, few studies have utilized standard HRQoL techniques and none have quantified childhood HRQoL impacts. This gap in the literature means the full burden of CM on HRQoL has not been measured, inhibiting the evaluation and comparison of CM intervention programs. This study will improve public health knowledge and economic evaluation of the HRQoL impacts of CM, including effects specific to juvenile and adolescent victims, through the development and fielding a preference-based survey instrument.

CDC has developed an exploratory survey instrument to quantify the HRQoL impacts of child maltreatment following standardized HRQoL methods. The survey was developed based on findings from a literature review of CM outcomes, focus groups with adult CM victims, and expert review of outcomes by clinician consultants who work with children and/or adults who were victims of CM or who are researchers in the field of CM. The survey is designed to quantify two types of data. The main objective is the HRQoL decrement attributable to CM, measured as the difference in HRQoL scores by CM victimization history. A secondary objective is a statistical evaluation of these decrements, based on respondent preferences over a series of comparisons that will be shown to survey respondents.

The online survey will be fielded to a nationally-representative sample of 750 adults ages 18-29 and 1100 adults ages 18 and up, for a total of 1850 U.S. adults. The survey will include HRQoL questions to capture the two types of data above, as well as select items on sociodemographics. Past exposure to CM will be measured using the Child Trauma Questionnaire (CTQ), the briefest and most nonintrusive set of scientifically validated questions to identify 5 types of past child abuse and neglect.

Final results will provide an estimate of the HRQoL burden of child maltreatment in the United States. Analysis and results of the survey data may provide suggestive information on the impacts of CM to the scientific and public health communities to help determine whether future studies using similar methods should be conducted after this exploratory study. There is no cost to respondents other than their time. The total estimated annual burden hours are 771.

Estimated Annualized Burden Hours
Type of respondent | Form name | Number of respondents | Number responses per respondent | Average burden per response (in hours)
Adults, age 18-29 | Health Related Quality of Life Survey | 750 | 1 | 25/60
Adults, age 18+ | Health Related Quality of Life Survey | 1100 | 1 | 25/60

Dated: September 22, 2011.
Daniel Holcomb,
Reports Clearance Officer, Centers for Disease Control and Prevention.

[FR Doc. 2011-25009 Filed 9-28-11; 8:45 am]

BILLING CODE 4163-18-P